DEPARTMENT OF ENERGY

Federal Energy Regulatory Commission

Combined Notice of Filings #1

Take notice that the Commission received the following electric corporate filings:

Docket Numbers: EC25-48-000.

Applicants: Hunlock Creek Generating LLC, Hunlock Energy, LLC, Castleton Commodities Merchant Trading, L.P., Castleton Commodities Energy Services LLC, Castleton Commodities Energy Trading LLC, Rensselaer Generating LLC, Roseton Generating LLC, Salem Harbor Power Development LP.

Description: Joint Application for Authorization Under Section 203 of the Federal Power Act of Hunlock Creek Generating LLC, et al.

Filed Date: 2/5/25.

Accession Number: 20250205-5202.

Comment Date: 5 p.m. ET 2/26/25.

Docket Numbers: EC25-49-000.

Applicants: DATC Path 15, LLC, Viridon California LLC.

Description: Joint Application for Authorization Under Section 203 of the Federal Power Act of DATC Path 15, LLC, et al.

Filed Date: 2/5/25.

Accession Number: 20250205-5204.

Comment Date: 5 p.m. ET 2/26/25.

Docket Numbers: EC25-50-000.

Applicants: AltaGas Brush Energy, Inc.

Description: Application for Authorization Under Section 203 of the Federal Power Act of AltaGas Brush Energy, Inc.

Filed Date: 2/6/25.

Accession Number: 20250206-5055.

Comment Date: 5 p.m. ET 2/27/25.

Take notice that the Commission received the following exempt wholesale generator filings:

Docket Numbers: EG25-125-000.

Applicants: Regis Continental LLC.

Description: Regis Continental LLC submits Notice of Self-Certification of Exempt Wholesale Generator Status.

Filed Date: 2/4/25.

Accession Number: 20250204-5220.

Comment Date: 5 p.m. ET 2/25/25.

Take notice that the Commission received the following electric rate filings:

Docket Numbers: ER10-1849-035; ER10-1851-020; ER10-1852-107; ER10-1857-023; ER10-1890-030; ER10-1899-024; ER10-1907-032; ER10-1918-033; ER10-1930-020; ER10-1931-021; ER10-1932-023; ER10-1935-024; ER10-1950-033; ER10-1962-030; ER10-1966-024; ER11-2160-030; ER11-2642-029; ER11-3635-023; ER12-895-034; ER12-1228-036; ER12-2225-023; ER12-2226-023; ER13-752-023; ER13-1991-036; ER13-1992-036; ER13-2112-025; ER13-2147-010; ER14-21-018; ER14-1630-020; ER14-2138-020; ER14-2447-004; ER14-2707-031; ER15-1375-024; ER15-2101-018; ER15-2477-023; ER15-2601-016; ER16-90-023; ER16-1354-019; ER16-1872-023; ER16-2275-024; ER16-2276-024; ER17-2340-020; ER18-882-023; ER18-1534-016; ER18-1535-015; ER18-1771-023; ER18-2003-020; ER18-2066-015; ER18-2182-021; ER18-2246-022; ER19-1392-014; ER19-1393-020; ER19-1394-020; ER19-2269-012; ER19-2389-014; ER19-2398-018; ER19-2437-016; ER20-1907-013; ER20-1986-012; ER20-2019-013; ER20-2064-014; ER20-2690-014; ER20-2695-015; ER21-254-010; ER21-1682-008; ER21-1879-008; ER21-1953-012; ER21-2117-012; ER21-2118-011; ER21-2149-012; ER21-2225-012; ER21-2293-011; ER21-2296-011; ER21-2699-013; ER22-381-014; ER22-1982-011; ER22-2536-007; ER22-2706-007; ER23-1541-005; ER23-1542-005; ER23-1543-005; ER23-2321-004; ER23-2629-006; ER24-26-004; ER24-827-004; ER24-1289-004; ER24-1816-003; ER24-2512-004; ER24-2513-004; ER24-2514-004; ER24-2662-002; ER24-2794-003.

Applicants: Minco II Energy Storage, LLC, Duane Arnold Solar II, LLC, FRP Gadsden County Solar, LLC, FRP Columbia County Solar, LLC, FRP Gilchrist County Solar, LLC, High River Energy Center, LLC, Decatur Solar Energy Center, LLC, Grace Orchard Energy Center, LLC, East Point Energy Center, LLC, High Banks Wind, LLC, Dunns Bridge Energy Storage, LLC, Desert Peak Energy Storage II, LLC, Desert Peak Energy Storage I, LLC, Desert Peak Energy Center, LLC, Eight Point Wind, LLC, Kossuth County Wind, LLC, Great Prairie Wind, LLC, Dunns Bridge Solar Center, LLC, Minco Wind Energy III, LLC, Ensign Wind Energy, LLC, Fish Springs Ranch Solar, LLC, Irish Creek Wind, LLC, Minco Wind Energy II, LLC, Dodge Flat Solar, LLC, Little Blue Wind Project, LLC, Heartland Divide Wind II, LLC, Farmington Solar, LLC, Elora Solar, LLC, Harmony Florida Solar, LLC, Mohave County Wind Farm LLC, Jordan Creek Wind Farm LLC, High Majestic Wind I, LLC, Gray County Wind, LLC, Day County Wind I, LLC, Minco Wind I, LLC, Emmons-Logan Wind, LLC, Hancock County Wind, LLC, Grazing Yak Solar, LLC, Dougherty County Solar, LLC, Endeavor Wind II, LLC, Endeavor Wind I, LLC, High Lonesome Mesa Wind, LLC, Heartland Divide Wind Project, LLC, Minco IV & V Interconnection, LLC, Minco Wind IV, LLC, Lorenzo Wind, LLC, Langdon Renewables, LLC, Montauk Energy Storage Center, LLC, East Hampton Energy Storage Center, LLC, Elk City Renewables II, LLC, Golden Hills North Wind, LLC, Kingman Wind Energy II, LLC, Kingman Wind Energy I, LLC, Marshall Solar, LLC, Live Oak Solar, LLC, Golden Hills Interconnection, LLC, Green Mountain Storage, LLC, Golden Hills Wind, LLC, Golden West Power Partners, LLC, McCoy Solar, LLC, Mammoth Plains Wind Project, LLC, Granite Reliable Power, LLC, Limon Wind III, LLC, Mantua Creek Solar, LLC, Mountain View Solar, LLC, Frontier Utilities Northeast LLC, Genesis Solar, LLC, Desert Sunlight 300, LLC, Desert Sunlight 250, LLC, Energy Storage Holdings, LLC, Limon Wind, LLC, Limon Wind II, LLC, High Majestic Wind II, LLC, Minco Wind Interconnection Services, LLC, Hatch Solar Energy Center I, LLC, FPL Energy South Dakota Wind, LLC, FPL Energy Montezuma Wind, LLC, Logan Wind Energy LLC, High Winds, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC, FPL Energy Illinois Wind, LLC, FPL Energy Green Power Wind, LLC, FPL Energy Cape, LLC, Florida Power & Light Company, ESI Vansycle Partners, L.P., Elk City Wind, LLC.

Description: Notice of Change in Status of Adelanto Solar II, LLC, et al.

Filed Date: 1/31/25.

Accession Number: 20250131-5577.

Comment Date: 5 p.m. ET 2/21/25.

Docket Numbers: ER10-1951-081; ER10-1970-033; ER10-1972-033; ER10-1973-023; ER10-1974-034; ER10-2641-051; ER11-2192-026; ER11-2365-012; ER11-4462-104; ER11-4677-031; ER12-676-025; ER12-2444-029; ER13-2461-026; ER14-2709-031; ER14-2710-031; ER15-58-029; ER16-1440-025; ER16-1913-016; ER16-2240-025; ER16-2241-024; ER16-2297-025; ER16-2443-020; ER16-2506-025; ER17-196-013; ER17-838-078; ER17-1774-014; ER18-772-015; ER18-807-016; ER18-1981-020; ER18-2224-023; ER19-11-014; ER19-1128-014; ER19-2266-012; ER20-792-014; ER20-1219-011; ER20-1220-014; ER20-1417-012; ER20-1879-015; ER20-1985-011; ER20-1988-012; ER20-1991-014; ER20-2012-011; ER20-2153-011; ER20-2380-012; ER20-2648-013; ER21-183-009; ER21-1532-009; ER21-1880-008; ER21-2048-012; ER21-2100-011; ER21-2641-008; ER22-96-008; ER23-147-007; ER23-148-007; ER23-489-007; ER23-853-005; ER23-1208-005; ER23-1862-004; ER24-34-006; ER24-2792-004; ER24-2793-004.

Applicants: Ponderosa Wind II, LLC, Oliver Wind IV, LLC, Proxima Solar, LLC, Roundhouse Renewable Energy II, LLC, North Central Valley Energy Storage, LLC, Saint Energy Storage II, LLC, Neptune Energy Center, LLC, Resurgence Solar II, LLC, Resurgence Solar I, LLC, Route 66 Solar Energy Center, LLC, Quinebaug Solar, LLC, Point Beach Solar, LLC, Sac County Wind, LLC, Niyol Wind, LLC, Quitman II Solar, LLC, Nutmeg Solar, LLC, Northern Divide Wind, LLC, Saint Solar, LLC, Sanford Airport Solar, LLC, Orbit Bloom Energy, LLC, Ponderosa Wind, LLC, Northern Colorado Wind Energy Center II, LLC, Northern Colorado Wind Energy Center, LLC, Oliver Wind I, LLC, Roundhouse Renewable Energy, LLC, Oliver Wind II, LLC, Peetz Table Wind, LLC, Oklahoma Wind, LLC, Quitman Solar, LLC, Rush Springs Energy Storage, LLC, Peetz Logan Interconnect, LLC, Pegasus Wind, LLC, Pratt Wind, LLC, Pinal Central Energy Center, LLC, New Mexico Wind, LLC, NextEra Energy Bluff Point, LLC, NextEra Energy Marketing, LLC, Pima Energy Storage System, LLC, Oliver Wind III, LLC, NextEra Blythe Solar Energy Center, LLC, Osborn Wind Energy, LLC, Ninnescah Wind Energy, LLC, Rush Springs Wind Energy, LLC, River Bend Solar, LLC, Roswell Solar, LLC, Palo Duro Wind Interconnection Services, LLC, Palo Duro Wind Energy, LLC, Seiling Wind II, LLC, Pheasant Run Wind, LLC, North Sky River Energy, LLC, Perrin Ranch Wind, LLC, NextEra Energy Montezuma II Wind, LLC, NEPM II, LLC, Paradise Solar Urban Renewal, L.L.C., Red Mesa Wind, LLC, Oleander Power Project, Limited Partnership, Northeast Energy Associates, A Limited Partnership, NextEra Energy Seabrook, LLC, NextEra Energy Point Beach, LLC, NextEra Energy Duane Arnold, LLC, NextEra Energy Services Massachusetts, LLC.

Description: Notice of Change in Status of Adelanto Solar II, LLC, et al.

Filed Date: 1/31/25.

Accession Number: 20250131-5578.

Comment Date: 5 p.m. ET 2/21/25.

Docket Numbers: ER10-2078-031; ER11-4678-030; ER12-631-031; ER12-1660-032; ER13-2458-027; ER14-2708-032; ER15-30-029; ER15-1016-023; ER15-2243-021; ER16-1277-019; ER16-1293-019; ER17-582-022; ER17-583-022; ER17-2270-024; ER18-2032-020; ER18-2091-016; ER18-2314-018; ER19-774-013; ER19-1076-015; ER19-2382-016; ER19-2495-016; ER19-2513-016; ER20-637-014; ER20-780-014; ER20-2070-009; ER20-2237-014; ER20-2597-014; ER20-2603-014; ER20-2622-010; ER21-255-010; ER21-744-008; ER21-1506-009; ER21-1580-012; ER21-2109-007; ER22-1370-011; ER22-1870-006; ER22-2601-007; ER22-2824-010; ER23-493-007; ER23-854-006; ER23-884-006; ER24-61-005; ER24-136-007; ER24-818-004; ER24-1287-005; ER24-1288-005; ER24-2848-004; ER25-109-003; ER25-554-001.

Applicants: Wild Plains Wind Project, LLC, Silver State South Storage, LLC, Troutdale Grid, LLC, Washington County Solar, LLC, Wadley Solar, LLC, Yellow Pine Solar II, LLC, Sunlight Storage II, LLC, Sky Ranch Solar, LLC, Sonoran Solar Energy, LLC, Storey Energy Center, LLC, Thunder Wolf Energy Center, LLC, Yellow Pine Solar, LLC, Walleye Wind, LLC, Vansycle II Wind, LLC, Sunlight Storage, LLC, Wheatridge Solar Energy Center, LLC, Sky River Wind, LLC, Shaw Creek Solar, LLC, Wallingford Renewable Energy LLC, Taylor Creek Solar, LLC, Wilmot Energy Center, LLC, Skeleton Creek Wind, LLC, Soldier Creek Wind, LLC, Weatherford Wind, LLC, Wheatridge Wind II, LLC, Sooner Wind, LLC, Wilton Wind Energy I, LLC, Wilton Wind Energy II, LLC, Wessington Springs Wind, LLC, Story County Wind, LLC, Windstar Energy, LLC, Stanton Clean Energy, LLC, Sholes Wind Energy, LLC, Titan Solar, LLC, Wildcat Ranch Wind Project, LLC, Stuttgart Solar, LLC, Whitney Point Solar, LLC, Westside Solar, LLC, White Oak Solar, LLC, White Pine Solar, LLC, Silver State Solar Power South, LLC, Shafter Solar, LLC, Seiling Wind Interconnection Services, LLC, Seiling Wind, LLC, Tuscola Wind II, LLC, Tuscola Bay Wind, LLC, Windpower Partners 1993, LLC, Vasco Winds, LLC, White Oak Energy LLC

Description: Notice of Change in Status of Adelanto Solar II, LLC, et al.

Filed Date: 2/3/25.

Accession Number: 20250203-5304.

Comment Date: 5 p.m. ET 2/24/25.

Docket Numbers: ER10-3169-015.

Applicants: Michigan Power Limited Partnership.

Description: Triennial Market Power Analysis for Central Region of Michigan Power Limited Partnership.

Filed Date: 2/5/25.

Accession Number: 20250205-5200.

Comment Date: 5 p.m. ET 4/7/25.

Docket Numbers: ER15-1418-024; ER10-1841-033; ER10-2005-033; ER13-712-037; ER15-1883-024; ER15-1925-029; ER15-2582-017; ER15-2676-028; ER16-91-023; ER16-632-023; ER16-1672-027; ER16-2190-025; ER16-2191-025; ER16-2453-026; ER17-804-007; ER17-2152-022; ER18-1863-017; ER18-1978-016; ER18-2118-021; ER19-987-020; ER19-1003-020; ER19-1073-014; ER19-2373-016; ER19-2461-016; ER19-2901-014; ER20-122-014; ER20-819-017; ER20-820-016; ER20-1769-013; ER20-1980-011; ER20-1987-015; ER20-2049-010; ER20-2179-013; ER21-1320-010; ER21-1519-009; ER21-1990-010; ER21-2294-013; ER21-2304-012; ER21-2674-009; ER22-415-011; ER22-2518-005; ER22-2634-007; ER23-71-005; ER23-568-007; ER22-2516-007; ER23-883-004; ER23-2107-005; ER23-2404-006; ER23-2694-004; ER23-2915-004; ER24-359-005; ER24-817-006; ER24-1804-005.

Applicants: Clearwater Wind III, LLC, Babbitt Ranch Energy Center, LLC, Crow Creek Solar, LLC, Chesapeake Solar Project, LLC, Cereal City Solar, LLC, Bronco Plains Wind II, LLC, Clearwater Wind II, LLC, Bell Ridge Solar, LLC, Chaves County Solar II, LLC, Big Cypress Solar, LLC, Buena Vista Energy Center, LLC, Buffalo Ridge Wind, LLC, Clearwater Wind I, LLC, Arlington Energy Center III, LLC, Borderlands Wind, LLC, Arlington Solar, LLC, Arlington Energy Center II, LLC, Blackwell Wind Energy, LLC, Cool Springs Solar, LLC, Crystal Lake Wind Energy III, LLC, Baldwin Wind Energy, LLC, Cedar Springs Wind III, LLC, Cerro Gordo Wind, LLC, Cedar Springs Wind, LLC, Chicot Solar, LLC, Blythe Solar IV, LLC, Blythe Solar III, LLC, Crowned Ridge Interconnection, LLC, Bronco Plains Wind, LLC, Crowned Ridge Wind, LLC, Ashtabula Wind I, LLC, Alta Wind VIII, LLC, Crystal Lake Wind Energy II, LLC, Crystal Lake Wind Energy I, LLC, Armadillo Flats Wind Project, LLC, Casa Mesa Wind, LLC, Coolidge Solar I, LLC, Cottonwood Wind Project, LLC, Coram California Development, L.P., Brady Interconnection, LLC, Brady Wind II, LLC, Brady Wind, LLC, Chaves County Solar, LLC, Blythe Solar II, LLC, Blythe Solar 110, LLC, Cedar Bluff Wind, LLC, Carousel Wind Farm, LLC, Breckinridge Wind Project, LLC, Adelanto Solar, LLC, Cimarron Wind Energy, LLC, Ashtabula Wind II, LLC, Butler Ridge Wind Energy Center, LLC, Adelanto Solar II, LLC.

Description: Notice of Change in Status of Adelanto Solar II, LLC, et al.

Filed Date: 1/31/25.

Accession Number: 20250131-5576.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 6, 2025.
Carlos D. Clay,
Deputy Secretary.

[FR Doc. 2025-02531 Filed 2-11-25; 8:45 am]

BILLING CODE 6717-01-P